DEPARTMENT OF COMMERCE

Bureau of Industry and Security

15 CFR Part 744

[Docket No. 220930-0205]

RIN 0694-AI51

Revisions to the Unverified List; Clarifications to Activities and Criteria That May Lead to Additions to the Entity List

AGENCY: Bureau of Industry and Security, Department of Commerce.

ACTION: Final rule.

SUMMARY: The Bureau of Industry and Security (BIS) is amending the Export Administration Regulations (EAR) by adding 31 persons to the Unverified List (UVL). The 31 persons are added to the UVL on the basis that BIS was unable to verify their bona fides because an end-use check could not be completed satisfactorily for reasons outside the U.S. Government's control. All 31 persons are being added under the destination of the People's Republic of China (China). This rule also removes nine persons, all under the destination of China, from the UVL because BIS was able to verify their bona fides. With this final rule, BIS also clarifies the activities and criteria that may lead to the addition of an entity to the Entity List, including a sustained lack of cooperation by the host government (e.g., the government of the country in which an end-use check is to be conducted) that effectively prevents BIS from determining compliance with the EAR.

DATES: This rule is effective October 7, 2022.

FOR FURTHER INFORMATION CONTACT: Linda Minsker, Director, Office of Enforcement Analysis, Phone: (202) 482-4255 or by email at UVLRequest@bis.doc.gov.

SUPPLEMENTARY INFORMATION:

Background

The UVL, set forth in supplement no. 6 to part 744 of the EAR (15 CFR parts 730-774), contains the names and addresses of foreign persons who are or have been parties to a transaction, as described in § 748.5 of the EAR, involving the export, reexport, or transfer (in-country) of items subject to the EAR. These foreign persons are added to the UVL because BIS or federal officials acting on BIS's behalf were unable to verify their bona fides (i.e., legitimacy and reliability relating to the end use and end user of items subject to the EAR) through the completion of an end-use check. Sometimes these checks, such as a pre-license check (PLC) or a post-shipment verification (PSV), cannot be completed satisfactorily for reasons outside the U.S. Government's control.

There are any number of reasons why these checks cannot be completed to the satisfaction of the U.S. Government. The reasons include, but are not limited to: (1) reasons unrelated to the cooperation of the foreign party subject to the end-use check (for example, BIS sometimes initiates end-use checks but is unable to complete them because the foreign party cannot be found at the address indicated on the associated export documents and BIS cannot contact the party by telephone or email); (2) reasons related to a lack of cooperation by the host government that fails to schedule and facilitate the completion of an end-use check, for example by host government agencies' lack of responses to requests to conduct end-use checks, actions preventing the scheduling of such checks, or refusals to schedule checks in a timely manner; or (3) when, during the end-use check, a recipient of items subject to the EAR is unable to produce the items that are the subject of the end-use check for visual inspection or provide sufficient documentation or other evidence to confirm the disposition of the items. BIS's inability to confirm the bona fides of foreign persons subject to end-use checks for the reasons described above raises concerns about the suitability of such persons as participants in future exports, reexports, or transfers (in-country) of items subject to the EAR; this also indicates a risk that such items may be diverted to prohibited end uses and/or end users. Under such circumstances, there may not be sufficient information to add the foreign person at issue to the Entity List under § 744.11 of the EAR. Therefore, BIS may add the foreign person to the UVL.

As provided in § 740.2(a)(17) of the EAR, the use of license exceptions for exports, reexports, and transfers (in-country) involving a party or parties to the transaction who are listed on the UVL is suspended. Additionally, under § 744.15(b) of the EAR, there is a requirement for exporters, re-exporters, and transferors to obtain (and maintain a record of) a UVL statement from a party or parties to the transaction who are listed on the UVL before proceeding with exports, reexports, and transfers (in-country) to such persons, when the exports, reexports and transfers (in-country) are not subject to a license requirement. Finally, pursuant to § 758.1(b)(8), Electronic Export Information (EEI) must be filed in the Automated Export System (AES) for all exports of tangible items subject to the EAR when a party or parties to the transaction is/are listed on the UVL.

Requests for the removal of a UVL entry must be made in accordance with § 744.15(d) of the EAR. Decisions regarding the removal or modification of UVL entry are made by the Deputy Assistant Secretary for Export Enforcement on the basis of a demonstration by the listed person of their bona fides.

Additions to the UVL

This rule adds 31 persons to the UVL by amending supplement no. 6 to part 744 of the EAR to include their names and addresses. BIS is adding these persons pursuant to § 744.15(c) of the EAR. This final rule implements the decision to add the following 31 persons located in China to the UVL:

China

1. Beijing Naura Magnetoelectric Technology Co., Ltd.

2. Beijing PowerMac Company

3. CCIC Southern Electronic Product Testing Co., Ltd.

4. Chang Zhou Jin Tan Teng Yuan Machinery Parts Co., Ltd.

5. Institute of Mineral Resources, Chinese Academy of Geological Sciences

6. Chinese Academy of Science (CAS) Institute of Chemistry

7. Chongqing Optel Telecom

8. Chongqing Xinyuhang Technology Co., Ltd.

9. Dandong Nondestructive Electronics

10. DK Laser Company Ltd.

11. Foshan Huaguo Optical Co., Ltd.

12. GRG Metrology & Test (Chongqing) Co., Ltd.

13. Guangdong Dongling Carbon Tech. Co., Ltd.

14. Guangxi Yuchai Machinery Co., Ltd.

15. Guangzhou GRG Metrology & Test (Beijing) Co., Ltd.

16. Jialin Precision Optics (Shanghai) Co., Ltd.

17. Lishui Zhengyang Electric Power Construction

18. Nanjing Gova Technology Co., Ltd.

19. Ningbo III Lasers Technology Co., Ltd.

20. Qingdao Sci-Tech Innovation Quality Testing Co., Ltd.

21. Shanghai Tech University

22. Suzhou Sen-Chuan Machinery Technology Co., Ltd.

23. Tianjin Optical Valley Technology Co., Ltd.

24. University of Chinese Academy of Sciences

25. University of Shanghai for Science and Technology

26. Vital Advanced Materials Co., Ltd.

27. Wuhan Institute of Biological Products Co., Ltd.

28. Wuhan Juhere Photonic Tech Co., Ltd.

29. Wuxi Hengling Technology Co., Ltd.

30. Xian Zhongsheng Shengyuan Technology Co., Ltd.

31. Yangtze Memory Technologies Co., Ltd.

Removals From the UVL.

This final rule removes nine persons from the UVL after BIS was able to verify their bona fides. This rule removes Anhui Institute of Metrology, Chuzhou HKC Optoelectronics Technology Co., Ltd., Hefei Anxin Reed Precision Co. Ltd., Hefei Institutes of Physical Science, Jiutian Intelligent Equipment Co. Ltd., Suzhou Gyz Electronic Technology Co. Ltd., Suzhou Lylap Mould Technology Co Ltd., Wuxi Biologics Co., Ltd., and Wuxi Turbine Blade Co., Ltd. from the UVL, all under the destination of China. BIS is removing these nine persons pursuant to § 744.15(c)(2) of the EAR.

Changes to § 744.11

The inability of BIS to determine compliance with the EAR because of a host government's action or inaction creates a circumstance that may place an entity at significant risk of being or becoming involved in activities contrary to the national security or foreign policy interests of the United States. For example, as previously mentioned, BIS frequently conducts end-use checks of foreign parties to verify their bona fides, thereby mitigating the risk of diversion of items subject to the EAR. If BIS is unable to conduct timely end-use checks, BIS's ability to prevent diversion and resolve concerns about potentially problematic end uses and users is negatively impacted. The sustained and deliberate prevention of an end-use check by a foreign government is therefore contrary to the national security and foreign policy interests of the United States. Further, the inability of an entity to receive a timely end-use check could lead to the determination that it is at significant risk of involvement in activities contrary to U.S. national security or foreign policy interests, leading to concerns regarding its receipt of items subject to the EAR. To better reflect the nature of the risk presented by such entities, when the risk assessed is the result of the actions of the relevant host government authority rather than the actions of the entities themselves, BIS is revising the heading of § 744.11, as well as the introductory text of § 744.11 and § 744.11(b), by adding language to also refer to entities that are “at significant risk” of acting contrary to the foreign policy and national security interests of the United States.

This includes sustained lack of cooperation by the host government to schedule and facilitate the completion of end-use checks. Particularly for entities identified on the UVL pursuant to § 744.15, this lack of cooperation could result in sufficient concern such that the End-User Review Committee (ERC) could make the determination that the addition of the entity to the Entity List will enhance BIS's ability to prevent violations of the EAR. Therefore, BIS also amends the EAR by providing an additional illustrative example to specify that situations in which there is a sustained lack of cooperation by a host government authority that prevents an end-use check from being conducted may constitute a basis for adding a party to the Entity List. This activity is being added to the illustrative list in § 744.11(b) of activities contrary to the national security and foreign policy interests of the United States that may support the addition of entities to the Entity List.

Additions to, removals from, or other modifications to the Entity List will remain consistent with procedures described in supplement no. 5 to part 744 of the EAR. As part of that process, the ERC, which is composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additional EAR Changes

This final rule also makes additional changes to the EAR. To better align the multiple lists found in part 744, BIS is changing the Federal Register citation column in the UVL to match those of the other lists. Prior to this rule, it read “Federal Register citation and date of publication” and it will now read “Federal Register citation.” Please note that, like the other lists in part 744, the UVL's citation column will still include the date of publication, however, the date remains part of the broader citation itself for the purposes of the list.

Export Control Reform Act of 2018

On August 13, 2018, the President signed into law the John S. McCain National Defense Authorization Act for Fiscal Year 2019, which included the Export Control Reform Act of 2018 (ECRA), 50 U.S.C. Sections 4801-4852. ECRA provides the legal basis for BIS's principal authorities and serves as the authority under which BIS issues this final rule.

Savings Clause

Shipments (1) that are removed from license exception eligibility or that are now subject to requirements in § 744.15 of the EAR as a result of this regulatory action; (2) that were eligible for export, reexport, or transfer (in-country) without a license before this regulatory action; and (3) that were on dock for loading, on lighter, laden aboard an exporting carrier, or enroute aboard a carrier to a port of export, on October 7, 2022, pursuant to actual orders, may proceed to that UVL listed person under the previous license exception eligibility or without a license and pursuant to the export clearance requirements set forth in part 758 of the EAR that applied prior to this person being listed on the UVL, so long as the items have been exported from the United States, reexported or transferred (in-country) before November 7, 2022. Any such items not actually exported, reexported or transferred (in-country) before midnight on November 7, 2022 are subject to the requirements in § 744.15 of the EAR in accordance with this regulation.

Rulemaking Requirements

Executive Order Requirements

Executive Orders 13563 and 12866 direct agencies to assess all costs and benefits of available regulatory alternatives and, if regulation is necessary, to select regulatory approaches that maximize net benefits (including potential economic, environmental, public health and safety effects, distribute impacts, and equity). Executive Order 13563 emphasizes the importance of quantifying both costs and benefits, of reducing costs, of harmonizing rules, and of promoting flexibility. This final rule is a “significant regulatory action” under Executive Order 12866.

This rule does not contain policies with federalism implications as that term is defined under Executive Order 13132.

Paperwork Reduction Act Requirements

Notwithstanding any other provision of law, no person is required to respond to, nor is subject to a penalty for failure to comply with, a collection of information, subject to the requirements of the Paperwork Reduction Act of 1995 (44 U.S.C. 3501 et seq.) (PRA), unless that collection of information displays a currently valid Office of Management and Budget (OMB) Control Number. This action contains collections of information approved by OMB under the following control numbers:

• OMB Control Number 0694-0088—Simple Network Application Process and Multipurpose Application Form

• OMB Control Number 0694-0122—Miscellaneous Licensing Responsibilities and Enforcement

• OMB Control Number 0694-0134—Entity List and Unverified List Requests

• OMB Control Number 0694-0137—License Exemptions and Exclusions

BIS believes that the overall increases in burdens and costs will be minimal and will fall within the already approved amounts for these existing collections.

Information regarding these collections including all supporting materials can be reviewed at www.reginfo.gov/public/do/PRAMain. Find the particular information collection by using the search function and entering the OMB Control Number, 0694-0088, 0694-0122, 0694-0134, or 0694-0137.

Administrative Procedure Act and Regulatory Flexibility Act Requirements

Pursuant to Section 4821 of ECRA, this action is exempt from the Administrative Procedure Act (5 U.S.C. 553) requirements for notice of proposed rulemaking and opportunity for public participation.

Further, no other law requires notice of proposed rulemaking or opportunity for public comment for this final rule. Because a notice of proposed rulemaking and an opportunity for public comment are not required under the Administrative Procedure Act or by any other law, the analytical requirements of the Regulatory Flexibility Act (5 U.S.C. 601 et seq.) are not applicable.

List of Subjects in 15 CFR Part 744

Exports, Reporting and recordkeeping requirements, Terrorism.

Accordingly, part 744 of the Export Administration Regulations (15 CFR parts 730 through 774) is amended as follows:

PART 744—[AMENDED]

1. The authority citation for 15 CFR part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 10, 2021, 86 FR 62891 (November 12, 2021); Notice of September 19, 2022, 87 FR 57569 (September 19, 2022).

2. Section 744.11 is revised to read as follows:

§ 744.11 License requirements that apply to entities acting or at significant risk of acting contrary to the national security or foreign policy interests of the United States.

BIS may impose foreign policy export, re-export, and transfer (in-country) license requirements, limitations on availability of license exceptions, and set license application review policy based on the criteria in this section. Such requirements, limitations and policy are in addition to those set forth elsewhere in the EAR. License requirements, limitations on use of license exceptions, and license application review policies will be imposed under this section by adding an entity to the Entity List (supplement no. 4 to this part) with a reference to this section and by stating on the Entity List the license requirements and license application review policies that apply to that entity, or by informing an exporter, re-exporter, or transferor pursuant to paragraph (c) of this section that a specific entity is subject to a license requirement, limitations on use of license exceptions and license application review policies as specified in a specific notice provided to an exporter, re-exporter, or transferor. BIS may remove an entity from the Entity List if it is no longer engaged in the activities described in paragraph (b) of this section and is unlikely to engage in such activities in the future, or if it is no longer at significant risk of acting contrary to the national security or foreign policy interests of the United States as described therein. BIS may modify the license exception limitations and license application review policies that apply to a particular entity to implement the policies of this section. BIS will implement the provisions of this section in accordance with the decisions of the End-User Review Committee or, if appropriate in a particular case, in accordance with the decisions of the body to which the End-User Review Committee decision is escalated. The End-User Review Committee will follow the procedures set forth in supplement no. 5 to this part.

(a) License requirement, availability of license exceptions, and license application review policy. A license is required, to the extent specified on the Entity List, to export, reexport, or transfer (in-country) any item subject to the EAR when an entity that is listed on the Entity List is a party to the transaction as described in § 748.5(c) through (f) of the EAR unless otherwise authorized or excluded in this section. License exceptions may not be used unless authorized in the Entity List entry for the entity that is party to the transaction. Applications for licenses required by this section will be evaluated as stated in the Entity List entry for the entity that is party to the transaction, in addition to any other applicable review policy stated elsewhere in the EAR.

(1) Standards related activity. A license is not required for the release of “technology” or “software” designated EAR99 or controlled on the CCL for anti-terrorism reasons only, when such a release is for a “standards-related activity.” In addition, a license is not required for the release of the following ECCN “items” level paragraphs of “technology” or “software” specifically for the “development,” “production,” or “use” of cryptographic functionality when such a release is for a “standards-related activity:” “software” that is classified under ECCN 5D002.b or 5D002.c.1 (for equipment specified in ECCN 5A002.a and 5A002.c only); “technology” that is classified under ECCN 5E002 (for equipment specified in ECCN 5A002.a, .b and .c); and “technology” for software controlled under ECCN 5D002.b or .c.1 (for equipment specified in ECCN 5A002.a and .c only).

(2) Entity List Foreign-Direct Product (FDP) license requirements, review policy, and license exceptions. You may not, without a license or license exception, reexport, export from abroad, or transfer (in-country) any foreign-produced item subject to the EAR pursuant to § 734.9(e) of the EAR to any end user described in § 734.9(e)(2) of the EAR. All license exceptions described in part 740 of the EAR are available for foreign-produced items that are subject to this license requirement if all terms and conditions of the applicable license exception are met and the restrictions in § 740.2 do not apply. The sophistication and capabilities of technology in items is a factor in license application review; license applications for foreign-produced items subject to a license requirement by this paragraph (a)(2) that are capable of supporting the “development” or “production” of telecom systems, equipment and devices below the 5G level (e.g., 4G, 3G) will be reviewed on a case-by-case basis.

(b) Criteria for revising the Entity List. Entities for which there is reasonable cause to believe, based on specific and articulable facts, that the entity has been involved, is involved, or poses a significant risk of being or becoming involved in activities that are contrary to the national security or foreign policy interests of the United States and those acting on behalf of such entities may be added to the Entity List pursuant to this section. An entity may pose a significant risk through certain circumstances that may be outside of its own control. Such circumstances that may place an entity at significant risk include situations involving a sustained lack of cooperation by a host government authority, for example, by preventing an end-use check from being conducted, that effectively prevents BIS from determining compliance with the EAR. This section may not be used to place on the Entity List any party to which exports or reexports require a license pursuant to § 744.8, § 744.12, § 744.13, § 744.14, or § 744.18. This section may not be used to place any U.S. person, as defined in § 772.1 of the EAR, on the Entity List. Paragraphs (b)(1) through (5) of this section provide an illustrative list of activities that could be or represent a significant risk of being contrary to the national security or foreign policy interests of the United States.

(1) Supporting persons engaged in acts of terror.

(2) Actions that could enhance the military capability of, or the ability to support terrorism of governments that have been designated by the Secretary of State as having repeatedly provided support for acts of international terrorism.

(3) Transferring, developing, servicing, repairing or producing conventional weapons in a manner that is contrary to United States national security or foreign policy interests or enabling such transfer, service, repair, development, or production by supplying parts, components, technology, or financing for such activity.

(4) Prevention of the accomplishment of an end use check conducted by or on behalf of BIS or the Directorate of Defense Trade Controls of the Department of State by:

(i) The entity precluding access to; refusing to provide information about; or providing false or misleading information about parties to the transaction or the item to be checked. The conduct in this example includes: expressly refusing to permit a check; providing false or misleading information; or engaging in dilatory or evasive conduct that effectively prevents the check from occurring or makes the check inaccurate or useless. A nexus between the conduct of the party to be listed and the failure to produce a complete, accurate and useful check is required, even though an express refusal by the party to be listed is not required; or

(ii) A sustained lack of cooperation by the host government to schedule and facilitate the completion of an end-use check of entities identified on the Unverified List pursuant to § 744.15, resulting in sufficient concern such that the End-User Review Committee believes that prior review of exports, reexports, or transfers (in-country) involving the entity and the possible imposition of license conditions or license denial enhance BIS's ability to prevent violations of the EAR.

(5) Engaging in conduct that poses a risk of violating the EAR when such conduct raises sufficient concern that the End-User Review Committee believes that prior review of exports, reexports, or transfers (in-country) involving the party and the possible imposition of license conditions or license denial enhances BIS's ability to prevent violations of the EAR.

(c) Additional prohibition on persons informed by BIS. BIS may inform persons, either individually by specific notice or through amendment to the EAR, that a license is required for:

(1) A specific export, reexport, or transfer (in-country) because there is an unacceptable risk that the export, reexport, or transfer (in-country) is intended to circumvent the license requirement imposed on an entity listed in supplement no. 4 to this part; or

(2) The export, reexport, or transfer (in-country) of specified items to a certain party because there is an unacceptable risk that the party is acting as an agent, front, or shell company for an entity listed in supplement no. 4 to this part, or is otherwise assisting that listed entity in circumventing the license requirement set forth in that entity's entry in supplement no. 4 to this part; or

(3) The export, reexport, or transfer (in-country) of specified items to a certain party because there is reasonable cause to believe, based on specific and articulable facts, that the entity has been involved, is involved, or poses a significant risk of being or becoming involved in activities that are contrary to the national security or foreign policy interests of the United States and those acting on behalf of such entity. Specific notice will be given only by, or at the direction of, the Deputy Assistant Secretary for Export Administration. When such notice is provided orally, it will be followed by written notice within two working days signed by the Deputy Assistant Secretary for Export Administration or the Deputy Assistant Secretary's designee. The specific notice will include the license requirement, limitations on use of license exceptions, and license application review policy with which that exporter, re-exporter, or transferor must comply pursuant to this paragraph (c)(3). The ERC may add such entities to the Entity List in supplement no. 4 to this part.

3. Supplement no. 6 to part 744 is amended by:

a. Revising the heading of the final column in the supplement; and

b. Under CHINA, PEOPLE'S REPUBLIC OF by:

i. Removing the entry “Anhui Institute of Metrology;”

ii. Adding entries, in alphabetical order, for the following entities: “Beijing Naura Magnetoelectric Technology Co., Ltd.;” “Beijing PowerMac Company;” “CCIC Southern Electronic Product Testing Co., Ltd.;” “Chang Zhou Jin Tan Teng Yuan Machinery Parts Co., Ltd;” “Chinese Academy of Geological Sciences, Institute of Mineral Resources;” “Chinese Academy of Science (CAS) Institute of Chemistry;” “Chongqing Optel Telecom;” and “Chongqing Xinyuhang Technology Co., Ltd.;”

iii. Removing entry for “Chuzhou HKC Optoelectronics Technology Co., Ltd.;”

iv. Adding entries, in alphabetical order, for the following entities: “Dandong Nondestructive Electronics;” “DK Laser Company Ltd.;” “Foshan Huaguo Optical Co., Ltd.;” “GRG Metrology & Test (Chongqing) Co., Ltd.;” “Guangdong Dongling Carbon Tech. Co., Ltd.;” “Guangxi Yuchai Machinery Co., Ltd.;” and “Guangzhou GRG Metrology & Test (Beijing) Co., Ltd.;”

v. Removing entries for “Hefei Anxin Reed Precision Co., Ltd.;” and “Hefei Institutes of Physical Science;”

vi. Adding an entry, in alphabetical order, for the following entity: “Jialin Precision Optics (Shanghai) Co., Ltd.;”

vii. Removing the entry for “Jiutian Intelligent Equipment Co., Ltd.”;

viii. Adding entries, in alphabetical order, for the following entities: “Lishui Zhengyang Electric Power Construction;” “Nanjing Gova Technology Co., Ltd.;” “Ningbo III Lasers Technology Co., Ltd.;” “Qingdao Sci-Tech Innovation Quality Testing Co., Ltd.;” and “Shanghai Tech University;”

ix. Removing entries for “Suzhou Gyz Electronic Technology Co., Ltd.” and “Suzhou Lylap Mould Technology Co., Ltd.;”

x. Adding entries, in alphabetical order, for the following entities: “Suzhou Sen-Chuan Machinery Technology Co., Ltd.;” “Tianjin Optical Valley Technology Co., Ltd.;” “University of Chinese Academy of Sciences, School of Chemical Sciences;” “University of Shanghai for Science and Technology;” “Vital Advanced Materials Co., Ltd.;” “Wuhan Institute of Biological Products Co., Ltd.;” and “Wuhan Juhere Photonic Tech Co., Ltd.;”

xi. Removing the entry “Wuxi Biologics Co., Ltd.;”

xii. Adding an entry, in alphabetical order, for the following entity: “Wuxi Hengling Technology Co., Ltd.;”

xii. Removing they entry for “Wuxi Turbine Blade Co., Ltd.;” and

xiv. Adding entries, in alphabetical order, for the following entities: “Xian Zhongsheng Shengyuan Technology Co., Ltd.” and “Yangtze Memory Technologies Co., Ltd.”

The revision and additions read as follows:

Supplement No. 6 to Part 744—Unverified List

Country | Listed person and address | Federal Register citation
* * * * * * *
CHINA, PEOPLE'S REPUBLIC OF
* * * * * * *
| Beijing Naura Magnetoelectric Technology Co., Ltd., M4 No 1 Jiuxianqiao East Road, Chaoyang District, Beijing 100015, China | 87 FR [INSERT FEDERAL REGISTER PAGE NUMBER] 10/13/2022
| Beijing PowerMac Company, B-1501, Calzhi International Building', 18 Zhongguancun East Road, Haidian District, Beijing, China | 87 FR [INSERT FEDERAL REGISTER PAGE NUMBER] 10/13/2022
* * * * * * *
| CCIC Southern Electronic Product Testing Co., Ltd., Electronic Testing Bldg. No 43 Shahe Rd Xili Jiedao, Nanshan District, Shenzhen, China | 87 FR [INSERT FEDERAL REGISTER PAGE NUMBER] 10/13/2022
* * * * * * *
| Chang Zhou Jin Tan Teng Yuan Machinery Parts Co., Ltd., 116 Huafeng road, Jintan Economic Development Zone, Changzhou China | 87 FR [INSERT FEDERAL REGISTER PAGE NUMBER] 10/13/2022
* * * * * * *
| Chinese Academy of Geological Sciences, Institute of Mineral Resources, Baiwangzhuang Main Street No 26, Xicheng District, Beijing 100037, China | 87 FR [INSERT FEDERAL REGISTER PAGE NUMBER] 10/13/2022
| Chinese Academy of Science (CAS) Institute of Chemistry, 2 Zhongguancun North 1st Street, Haidian District, Beijing 100190, China | 87 FR [INSERT FEDERAL REGISTER PAGE NUMBER] 10/13/2022
| Chongqing Optel Telecom, No 1 6f Building 7, No 106 West Jinkai Avenue, Yubei District, Chongqing 401121, China | 87 FR [INSERT FEDERAL REGISTER PAGE NUMBER] 10/13/2022
| Chongqing Xinyuhang Technology Co., Ltd., Shanying Workshop, liangjiang Avenue, Longxing Town, Yubei District, Chongqing 401135, China | 87 FR [INSERT FEDERAL REGISTER PAGE NUMBER] 10/13/2022
* * * * * * *
| Dandong Nondestructive Electronics, No 2 Tonghe Street Jinshan Industrial Park, Yuanbao District Dandong, Dandong 118000, China | 87 FR [INSERT FEDERAL REGISTER PAGE NUMBER] 10/13/2022
* * * * * * *
| DK Laser Company Ltd., Zhuodas Jingu Industrial Park #4, Jinlong New District, Xiangyin, Hunan Province, , China | 87 FR [INSERT FEDERAL REGISTER PAGE NUMBER] 10/13/2022
* * * * * * *
| Foshan Huaguo Optical Co., Ltd., No 3 Changhong East Road, Zhangcha Street, Foshan City 528051, China | 87 FR [INSERT FEDERAL REGISTER PAGE NUMBER] 10/13/2022
* * * * * * *
| GRG Metrology & Test (Chongqing) Co., Ltd., The 3rd floor of building A no 37 Cuitao Road, Chongqing City, China | 87 FR [INSERT FEDERAL REGISTER PAGE NUMBER] 10/13/2022
| Guangdong Dongling Carbon Tech. Co., Ltd., #83 Shatong Road, Shabu County, Dalang Town Dongguan city, Guangdong 523770, China | 87 FR [INSERT FEDERAL REGISTER PAGE NUMBER] 10/13/2022
* * * * * * *
| Guangxi Yuchai Machinery Co., Ltd., 8 Tinqiao West rd., Yulin Guanxi Province 537005, China | 87 FR [INSERT FEDERAL REGISTER PAGE NUMBER] 10/13/2022
| Guangzhou GRG Metrology & Test (Beijing) Co., Ltd., 1st-2nd floor, 5th building, No 8 courtyard, No. 2 Street of Cold Water Economic and Technological Development Zone, Beijing, China | 87 FR [INSERT FEDERAL REGISTER PAGE NUMBER] 10/13/2022
* * * * * * *
| Jialin Precision Optics (Shanghai) Co., Ltd., Western Section Floor 1 No 1 Dongcheng Er lu, Pujiang Town Minhang District, Shanghai 201112, China | 87 FR [INSERT FEDERAL REGISTER PAGE NUMBER] 10/13/2022
* * * * * * *
| Lishui Zhengyang Electric Power Construction, 573 Nanshan Road Nanshan Park Liandu, Industrial Zone Zhejiang, Lishui, China | 87 FR [INSERT FEDERAL REGISTER PAGE NUMBER] 10/13/2022
* * * * * * *
| Nanjing Gova Technology Co., Ltd., No 66 Qixia Avenue, Nanjing Economic and Technological Development Zone, Nanjing, Jiangsu Province, China | 87 FR [INSERT FEDERAL REGISTER PAGE NUMBER] 10/13/2022
* * * * * * *
| Ningbo III Lasers Technology Co., Ltd., Phase II Binjiang Equipment Park, Fenglin Road Beilun District, Ningbo City 315803, China | 87 FR [INSERT FEDERAL REGISTER PAGE NUMBER] 10/13/2022
* * * * * * *
| Qingdao Sci-Tech Innovation Quality Testing Co., Ltd., Huaye Building, Lanbeizhizao Gongchang, No 1 Jinye Road, High-Tech Zone, Qingdao, China | 87 FR [INSERT FEDERAL REGISTER PAGE NUMBER] 10/13/2022
* * * * * * *
| ShanghaiTech University, 393 Middle Huaxia Rd, School of Phy Sci and Tech, Pudong, Shanghai201210, China | 87 FR [INSERT FEDERAL REGISTER PAGE NUMBER] 10/13/2022
* * * * * * *
| Suzhou Sen-Chuan Machinery Technology Co., Ltd., No 3 Yantou Road, Huayang Village, Wangting town, Xiangcheng DistrictSuzhou 215155, China | 87 FR [INSERT FEDERAL REGISTER PAGE NUMBER] 10/13/2022
* * * * * * *
| Tianjin Optical Valley Technology Co., Ltd., 5-1 2-104 Qingda Boya industrial Park Beichen District, Tianjin 30400, China | 87 FR [INSERT FEDERAL REGISTER PAGE NUMBER] 10/13/2022
* * * * * * *
| University of Chinese Academy of Sciences, School of Chemical Sciences, # 19 (A) Yuquan Road, Shijingshan District, Beijing 100049, China | 87 FR [INSERT FEDERAL REGISTER PAGE NUMBER] 10/13/2022
| University of Shanghai for Science and Technology, 516 Jungong Road, Shanghai 200093, China | 87 FR [INSERT FEDERAL REGISTER PAGE NUMBER] 10/13/2022
| Vital Advanced Materials Co., Ltd., Zone B No 27-9 BAIJIA Industrial Park, High Tech Development Zone, Guangdong Province, Qingyuan 511517, China | 87 FR [INSERT FEDERAL REGISTER PAGE NUMBER] 10/13/2022
* * * * * * *
| Wuhan Institute of Biological Products Co., Ltd., No 1 Golden Industrial Park Road, Zhengdian Street, Jiangxia District, Wuhan City, Hubei Province, 430207, China | 87 FR [INSERT FEDERAL REGISTER PAGE NUMBER] 10/13/2022
| Wuhan Juhere Photonic Tech Co., Ltd., 2/F Building 12, Guanggu New Power, Guanggu 2nd Rd East Lake High-Tech Zone, Wuhan 430200, China | 87 FR [INSERT FEDERAL REGISTER PAGE NUMBER] 10/13/2022
* * * * * * *
| Wuxi Hengling Technology Co., Ltd., Bldg C1 No 999 East Gaolang rd Binhu District, Wuxi City, Jiangsu Province, 214131, China | 87 FR [INSERT FEDERAL REGISTER PAGE NUMBER] 10/13/2022
* * * * * * *
| Xian Zhongsheng Shengyuan Technology Co., Ltd., 9 Gardens at 202 South Second ring Rd, Lianju District, Xian 710000, China | 87 FR [INSERT FEDERAL REGISTER PAGE NUMBER] 10/13/2022
* * * * * * *
| Yangtze Memory Technologies Co., Ltd., No. 88 Weilai 3rd RoadEast Lake High-Tech Development Zone, Wuhan Hubei 43000, China | 87 FR [INSERT FEDERAL REGISTER PAGE NUMBER] 10/13/2022
* * * * * * *

Thea D. Rozman Kendler,
Assistant Secretary for Export Administration.

[FR Doc. 2022-21714 Filed 10-7-22; 8:45 am]

BILLING CODE 3510-33-P